DEPARTMENT OF AGRICULTURE

Forest Service

Notice of New Recreation Fee Site; Federal Lands Recreation Enhancement Act, (Title VIII, Pub. L. 108-447)

AGENCY: George Washington & Jefferson National Forests, USDA Forest Service.

ACTION: Notice of New Recreation Fee Site.

SUMMARY: George Washington & Jefferson National Forests will begin charging a $15 fee per single campsite and $25 per double campsite for overnight use at White Cedar Horse Camp, which is presently under construction. This new campground will facilitate equestrian use of George Washington & Jefferson National Forests on the Eastern Divide Ranger District. Fee revenue will support operations and maintenance of the campground and future site improvements.

DATES: White Cedar Horse Camp is scheduled to open for public use in May, 2007.

ADDRESSES: Forest Supervisor, George Washington & Jefferson National Forests, 5162 Valleypointe Parkway, Roanoke, VA 24019.

FOR FURTHER INFORMATION CONTACT: Ted Coffman, Recreation Fee Coordinator, 540-265-5217.

SUPPLEMENTARY INFORMATION: The Federal Recreation Lands Enhancement Act (Title VII, Pub. L. 108-447) directed the Secretary of Agriculture to publish advance notice in the Federal Register whenever new recreation fee areas are established. This new fee will be reviewed by a Recreation Resource Advisory Committee prior to a final decision and implementation. George Washington & Jefferson National Forests presently manage three overnight recreation fee sites on the Eastern Divide Ranger District. Recreation fees for overnight use range from $4.00 per single campsite to $25.00 per site for group use based on the level of development. White Cedar Horse Camp will offer vault toilet facilities, water, horse trail access, and developed campsites with a picnic table, fire ring, lantern post and horse hitching area. Campsites will be available on a first come, first served basis.

Dated: November 20, 2006.
Henry B. Hickerson,
George Washington & Jefferson National Forests Deputy Forest Supervisor.

[FR Doc. E6-19994 Filed 11-24-06; 8:45 am]

BILLING CODE 3410-11-P